DEPARTMENT OF COMMERCE

National Oceanic and Atmospheric Administration

RIN 0648-XC829

Pacific Fishery Management Council; Public Meetings

AGENCY: NMFS, National Oceanic and Atmospheric Administration, Commerce.

ACTION: Notice of public meetings.

SUMMARY: The Pacific Fishery Management Council (Pacific Council) and its advisory entities will hold public meetings.

DATES: The Pacific Council and its advisory entities will meet September 11-17, 2013. The Pacific Council meeting will begin on Thursday, September 12, 2013 at 8 a.m., reconvening each day through Tuesday, September 17, 2013. All meetings are open to the public, except a closed session will be held at the end of the scheduled agenda on Thursday, September 12 to address litigation and personnel matters. The Pacific Council will meet as late as necessary each day to complete its scheduled business.

ADDRESSES: Meetings of the Pacific Council and its advisory entities will be held at the Riverside Hotel, 2900 Chinden Blvd., Boise, ID 83714; telephone: (208) 343-1871. Instructions for attending the meeting via live stream broadcast are given under SUPPLEMENTARY INFORMATION below.

Council address: Pacific Fishery Management Council, 7700 NE Ambassador Place, Suite 101, Portland, OR 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The September 12-17, 2013 meeting of the Pacific Fishery Management Council will be streamed live on the internet. The live meeting will be broadcast daily starting at 8 a.m. Mountain Time (MT), beginning on Thursday, September 12, 2013 through Tuesday September 17, 2013. The broadcast will end daily at 6 p.m. MT or when business for the day is complete. Only the audio portion, and portions of the presentations displayed on the screen at the Council meeting, will be broadcast. The audio portion is listen-only; you will be unable to speak to the Council via the broadcast. Attend the broadcast meeting online by going to http://www.joinwebinar.com and entering the Webinar ID; for September the Webinar ID is 626-030-015, and then enter your email address as required. The audio and visual portions of the broadcast may be attended using a computer, tablet, or smart phone, using the GoToMeeting application. It is recommended that you use a computer headset to listen to the meeting, but if you do not have a headset or speakers, you may use your telephone for the audio portion of the meeting. The audio portion alone may be attended using a telephone by dialing the toll number 1-516-453-0031; phone audio access code 319-195-051 (not a toll-free number). The following items are on the Pacific Council agenda, but not necessarily in this order.

A. Call to Order

1. Opening Remarks

2. Roll Call

3. Executive Director's Report

4. Approve Agenda

B. Open Comment Period

Comments on Non-Agenda Items

C. Enforcement Issues

Tri-State Enforcement Report

D. Pacific Halibut Management

1. Pacific Halibut Bycatch Estimate

2. 2014 Pacific Halibut Regulations

E. Salmon Management

1. 2013 Salmon Methodology Review

2. Fishery Management Plan Amendment 18—Update of Essential Fish Habitat for Salmon

3. Lower Columbia River Double-Crested Cormorant Management Plan

F. Habitat

Current Habitat Issues

G. Groundfish Management

1. National Marine Fisheries Service Report

2. Sablefish Permit Stacking Program Review

3. Approve Stock Assessments

4. Science Improvements for the Next Groundfish Management Cycle

5. Consideration of Inseason Adjustments

6. Consideration of Trawl Rockfish Conservation Area Boundary Modifications

7. Initial Actions for Setting 2015-2016 Groundfish Fisheries

8. Consider Stock Complex Aggregations

9. Trawl Rationalization Trailing Actions Scoping, Process, and Prioritization

10. Electronic Monitoring Scoping

H. Administrative Matters

1. Managing Our Nation's Fisheries 3 Conference Follow-ups and Unrelated Legislative Matters

2. Approval of Council Meeting Minutes

3. Fiscal Matters

4. Membership Appointments and Council Operating Procedures

5. Future Council Meeting Agenda and Workload Planning

I. Ecosystem-Based Management

1. Update List of Fisheries

2. Unmanaged Forage Fish Protection Initiative

Schedule of Ancillary Meetings
| Time | Location
Wednesday, September 11, 2013:
Groundfish Advisory Subpanel | 8 a.m. | Tamarack Room.
Groundfish Management Team | 8 a.m. | Aspen Room.
Scientific and Statistical Committee | 8 a.m. | North Star Room.
Habitat Committee | 8:30 a.m. | Liberty Room.
Budget Committee | 12 Noon | Emerald Room.
Legislative Committee | 2 p.m. | Emerald Room.
Enforcement Consultants | 5 p.m. | Delamar Room.
Thursday, September 12, 2013:
California State Delegation | 7 a.m. | Tamarack Room.
Oregon State Delegation | 7 a.m. | Cinnabar Room.
Washington State Delegation | 7 a.m. | North Star Room.
Groundfish Advisory Subpanel | 8 a.m. | Tamarack Room.
Groundfish Management Team | 8 a.m. | Aspen Room.
Scientific and Statistical Committee | 8 a.m. | North Star Room.
Habitat Committee | 8 a.m. | Liberty Room.
Enforcement Consultants | as Needed | Delamar Room.
Chair's Reception | 6 p.m. | Lawn Area by Fireside Foyer.
Friday, September 13, 2013:
California State Delegation | 7 a.m. | Tamarack Room.
Oregon State Delegation | 7 a.m. | Cinnabar Room.
Washington State Delegation | 7 a.m. | North Star Room.
Groundfish Advisory Subpanel | 8 a.m. | Tamarack Room.
Groundfish Management Team | 8 a.m. | Aspen Room.
Scientific and Statistical Committee | 8 a.m. | North Star Room.
Enforcement Consultants | as Needed | Delamar Room.
Saturday, September 14, 2013:
California State Delegation | 7 a.m. | Tamarack Room.
Oregon State Delegation | 7 a.m. | Cinnabar Room.
Washington State Delegation | 7 a.m. | North Star Room.
Groundfish Advisory Subpanel | 8 a.m. | Tamarack Room.
Groundfish Management Team | 8 a.m. | Aspen Room.
Ecosystem Advisory Subpanel | 8 a.m. | Liberty Room.
Enforcement Consultants | as Needed | Delamar Room.
Sunday, September 15, 2013:
California State Delegation | 7 a.m. | Tamarack Room.
Oregon State Delegation | 7 a.m. | Cinnabar Room.
Washington State Delegation | 7 a.m. | North Star Room.
Groundfish Advisory Subpanel | 8 a.m. | Tamarack Room.
Groundfish Management Team | 8 a.m. | Aspen Room.
Ecosystem Advisory Subpanel | 8 a.m. | Liberty Room.
Enforcement Consultants | as Needed | Delamar Room.
Monday, September 16, 2013:
California State Delegation | 7 a.m. | Tamarack Room.
Oregon State Delegation | 7 a.m. | Cinnabar Room.
Washington State Delegation | 7 a.m. | North Star Room.
Groundfish Advisory Subpanel | 8 a.m. | Tamarack Room.
Groundfish Management Team | 8 a.m. | Aspen Room.
Enforcement Consultants | as Needed | Delamar Room.
Tuesday, September 17, 2013:
California State Delegation | 7 a.m. | Tamarack Room.
Oregon State Delegation | 7 a.m. | Cinnabar Room.
Washington State Delegation | 7 a.m. | North Star Room.

Although non-emergency issues not contained in this agenda may come before this Council for discussion, those issues may not be the subject of formal Council action during these meetings. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: August 20, 2013.
Tracey L. Thompson,
Acting Deputy Director, Office of Sustainable Fisheries, National Marine Fisheries Service.

[FR Doc. 2013-20601 Filed 8-22-13; 8:45 am]

BILLING CODE 3510-22-P